SOCIAL SECURITY ADMINISTRATION

[Docket No. SSA 2008-0060]

Social Security Ruling, SSR 85-3.; Rescission of Social Security Ruling 85-3

AGENCY: Social Security Administration.

ACTION: Notice of Rescission of Social Security Ruling.

SUMMARY: In accordance with 20 CFR 402.35(b)(1), the Commissioner of Social Security gives notice of the rescission of Social Security Ruling (SSR) 85-3.

DATES: Effective Date: This rescission will be effective October 23, 2009.

FOR FURTHER INFORMATION CONTACT: Joann S. Anderson, Office of Income Security Programs, Social Security Administration, 6401 Security Boulevard, Baltimore, MD 21235-6401, (410) 965-6716 or TTY 410-966-5609, for information about this notice. For information on eligibility or filing for benefits, call our national toll-free number, 1-800-772-1213 or TTY 1-800-325-0778, or visit our Internet site, Social Security Online, at http://www.socialsecurity.gov.

SUPPLEMENTARY INFORMATION: SSRs make available to the public precedential decisions relating to the Federal old-age, survivors, disability, supplemental security income, special veterans benefits, and black lung benefits programs. SSRs may be based on determinations or decisions made at all levels of administrative adjudication, Federal court decisions, Commissioner's decisions, opinions of the Office of the General Counsel, or other interpretations of the law and regulations.

SSR 85-3 states that we do not need to authorize a representative's fee when the following conditions are met:

1. The claimant or beneficiary (including any auxiliaries) is not liable to pay a fee or any expenses, or any part thereof, directly or indirectly, to the representative or to someone else.

2. The entity which pays the fee and expenses incurred, if any, on behalf of the claimant(s) or beneficiary(ies) is a nonprofit organization or a Federal, State, county, or city agency.

3. The payment of the fee and any expenses is made from funds provided or administered by a government entity.

4. The representative submits to SSA a written statement waiving the right to charge and collect a fee and expenses from the claimant or beneficiary.

We are publishing a final rule, Authorization of Representative Fees, in today's Federal Register that incorporates this policy as revised at 20 CFR 404.1720(e) and 416.1520(e). Accordingly, we are rescinding SSR 85-3 as obsolete.

(Catalog of Federal Domestic Assistance Program Nos. 96.001, Social Security-Disability Insurance; 96.002, Social Security-Retirement Insurance; 96.004, Social Security-Survivors Insurance; and 96.006, Supplemental Security Income)

Dated: July 30, 2009.
Michael J. Astrue,
Commissioner of Social Security.

[FR Doc. E9-22843 Filed 9-22-09; 8:45 am]

BILLING CODE 4191-02-P